DEPARTMENT OF ENERGY

[OE Docket No. EA-480]

Application To Export Electric Energy; Engelhart CTP (US) LLC

AGENCY: Office of Electricity, Department of Energy.

ACTION: Notice of application.

SUMMARY: Engelhart CTP (US) LLC (Applicant or ECTP) has applied for authorization to transmit electric energy from the United States to Canada pursuant to the Federal Power Act.

DATES: Comments, protests, or motions to intervene must be submitted on or before January 9, 2020.

ADDRESSES: Comments, protests, motions to intervene, or requests for more information should be addressed to: Office of Electricity, Mail Code: OE-20, U.S. Department of Energy, 1000 Independence Avenue SW, Washington, DC 20585-0350. Because of delays in handling conventional mail, it is recommended that documents be transmitted by overnight mail, by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 7172(f)). Such exports require authorization under section 202(e) of the Federal Power Act (16 U.S.C. 824a(e)).

On November 20, 2019, ECTP filed an application with DOE (Application or App.) to transmit electric energy from the United States to Canada. ECTP is a single-member limited liability company. ECTP has requested an electricity export authorization with a 5-year term using existing international transmission facilities.

In its application, the Applicant states that it is a power marketer that does not own or operate an integrated transmission or distributed system . . .”. App. at 4.The electric energy that the Applicant proposes to export to Canada “would be surplus to the needs of the relevant transmission or distribution system...” App. at 4. The existing international transmission facilities to be utilized by the Applicant have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214). Five (5) copies of such comments, protests, or motions to intervene should be sent to the address provided above on or before the date listed above.

Comments and other filings concerning ECTP's application to export electric energy to Canada should be clearly marked with OE Docket No. EA-480. An additional copy is to be provided directly to Changjae Lee, Engelhart CTP (US) LLC, 400 Atlantic St. 11th Floor, Stamford, CT 06901 and Jennifer Brough, Locke Lord LLP, 701 8th St. NW Suite 700, Washington, DC 20001.

A final decision will be made on this application after the environmental impacts have been evaluated pursuant to DOE's National Environmental Policy Act Implementing Procedures (10 CFR part 1021) and after DOE determines that the proposed action will not have an adverse impact on the sufficiency of supply or reliability of the U.S. electric power supply system.

Copies of this application will be made available, upon request, for public inspection and copying at the address provided above, by accessing the program website at http://energy.gov/node/11845, or by emailing Matthew Aronoff at matthew.aronoff@hq.doe.gov.

Signed in Washington, DC, on December 2, 2019.
Christopher Lawrence,
Management and Program Analyst, Transmission Permitting and Technical Assistance, Office of Electricity.

[FR Doc. 2019-26549 Filed 12-9-19; 8:45 am]

BILLING CODE 6450-01-P